DEPARTMENT OF COMMERCE

National Oceanic and Atmospheric Administration

RIN 0648-BB69

New England Fishery Management Council; Notice of Intent To Prepare an Environmental Impact Statement (EIS); Northeast Multispecies Fishery; Notice of Public Scoping Meetings

AGENCY: National Marine Fisheries Service (NMFS), National Oceanic and Atmospheric Administration (NOAA), Commerce.

ACTION: Notice of Intent To Prepare an Environmental Impact Statement; notice of public scoping meetings; requests for comments.

SUMMARY: The New England Fishery Management Council (Council) announces its intention to prepare, in cooperation with NMFS, an EIS in accordance with the National Environmental Policy Act to assess potential effects on the human environment of alternative measures to address management and conservation measures for the Northeast (NE) multispecies fishery. This action is necessary to provide analytical support for an amendment to the Northeast Multispecies Fishery Management Plan (FMP) examining potential rules to reduce the likelihood that groundfish permit holders will acquire or control excessive shares of fishing privileges in the fishery and that over-consolidation will occur within the fleet.

This notice announces a public process for determining the scope of issues to be addressed, and for identifying the significant issues related to fleet diversity and the implementation of accumulation limits for this fishery. This notice is to alert the interested public of the scoping process, the development of the Draft EIS, and to provide for public participation in that process.

DATES: Written comments must be received on or before 5 p.m., EST, on March 1, 2012. Eleven public scoping meetings will be held during this comment period. See SUPPLEMENTARY INFORMATION section for dates, times, and locations.

ADDRESSES: Written comments may be sent by any of the following methods:

• Email to the following address: Groundfish.Amendment18@noaa.gov;

• Mail or hand deliver to Mr. Paul Howard, New England Fishery Management Council, 50 Water St., Mill 2, Newburyport, MA 01950. Mark the outside of the envelope “Groundfish Amendment 18 Scoping Comments”; or

• Fax to (978) 465-3116.

The scoping document may also be obtained from the Council office at the previously provided address, by request to the Council by telephone (978) 465-0492, or via the Internet at http://www.nefmc.org.

Comments may also be provided orally at any of the 11 public scoping meetings. See the SUPPLEMENTARY INFORMATION section for dates, times, and locations.

FOR FURTHER INFORMATION CONTACT: Mr. Paul Howard, New England Fishery Management Council, 50 Water St., Mill 2, Newburyport, MA 01950, (telephone (978) 465-0492).

SUPPLEMENTARY INFORMATION: The NE multispecies fishery targets cod, haddock, white hake, pollock, Acadian redfish, yellowtail flounder, winter flounder, witch flounder, American plaice, windowpane flounder, Atlantic halibut, ocean pout, and Atlantic wolffish. These species are managed as 20 individual stocks and are termed “regulated species”. The Council has managed these species as a unit under the NE Multispecies FMP since 1985. (The NE Multispecies FMP also manages silver hake, red hake and offshore hake, which are called “small mesh species,” and which would not be directly affected by Amendment 18.) Many of these stocks are overfished and/or overfishing is occurring. As a result, strict regulations have been adopted to control catch and promote stock rebuilding. Management measures include limited and open-access permit categories, limits on fishing time through days-at-sea (DAS) allocations, gear requirements, closed areas, retention limits, and sector allocation. These measures have been adopted through a series of amendments and adjustments to the original FMP. The most recent amendment (Amendment 16, implemented on May 1, 2010) expands the use of sectors to manage the fishery. Sectors are voluntary, self-selected groups of fishermen that are allocated a portion of the available catch. Amendment 16 also implements annual catch limits (ACLs); exceeding these limits triggers additional management actions called accountability measures (AMs).

At the request of the Council, NMFS published a control date of March 7, 2011. The control date is intended to alert the fishing industry and the public that any present or future accumulation of fishing privileges may be limited or may not be allowed after or prior to the published control date. It also is intended to discourage speculative behavior in the market for fishing privileges while the Council considers whether and how such limitations on accumulation of fishing privileges should be developed. However, in establishing this date, the Council is not obligated to take any further action. No limits or restrictions have been imposed on the groundfish fishery by establishing this control date. However, fishermen are encouraged to preserve any documents relating to their ownership or control of fishing privileges in the event that the Council does decide to take a future action.

In the most recent specification process (Framework Adjustment 44 to the NE Multispecies FMP), catch limits for many multispecies stocks were set at very low levels, and these restrictions are anticipated to remain for the near future. Currently, there are no specific controls on the excessive accumulation or control of fishing privileges in the multispecies fishery. There is concern that the low catch limits, in conjunction with expanded sector management, will lead to excessive consolidation and lack of diversity in the groundfish fleet. Likewise, there is concern regarding consolidation and diversity in the groundfish fleet as stocks rebuild and acceptable biological catches (ABCs) increase.

Because of these concerns and in light of the National Standards and other requirements of the Magnuson-Stevens Act related to maintaining the diverse makeup of the fleet, as well as an interest in keeping active and thriving fishing ports throughout New England, the Council is considering measures that may limit or cap the amount or type of fishing privileges that individuals or groups of individuals may acquire or control. The Council may also create other incentives for maintaining diversity and fishery infrastructure. The Council has identified two objectives for an amendment to achieve these objectives:

1. To consider the establishment of accumulation caps for the groundfish fishery; and

2. To consider issues associated with fleet diversity in the multispecies fishery.

Meetings

Eleven scoping meetings to facilitate public comment will be held on the following dates and locations:

City and date | Location
Ellsworth, Maine Tuesday, January 17, 2012 6-8 p.m | Ellsworth City Hall, 1 City Plaza, Ellsworth, ME, Phone: (207) 667-2563.
Portland, Maine Wednesday, January 18, 2012 5-7 p.m | Holiday Inn by the Bay, 88 Spring Street, Portland, ME, Phone: (207) 775-2311.
Fairhaven, Massachusetts Friday, January 20, 2012 12 a.m.-2 p.m | Seaport Inn, 110 Middle Street, Fairhaven, MA, Phone: (508) 997-1281.
So. Kingstown, Rhode Island Friday, January 20, 2012 5-7 p.m | Holiday Inn, 3009 Tower Hill Road, So. Kingstown, RI, Phone: (401) 789-1051.
Riverhead, New York Monday, January 23, 2012 7-9 p.m | Hotel Indigo East End, 1830 Route 25, Riverhead, NY, Phone: (631) 369-2200.
Manahawkin, New Jersey Tuesday, January 24, 2012 12 a.m.-2 p.m | Holiday Inn, 151 Route 72 East, Manahawkin, NJ, Phone: (732) 571-4000.
Hyannis, Massachusetts Thursday, January 26, 2012 1-3 p.m | Holiday Inn, Hyannis, 1127 Route 132, Hyannis, MA, Phone (508) 775-1153.
Plymouth, Massachusetts Thursday, January 26, 2012 5-7 p.m | Radisson Plymouth, 180 Water Street, Plymouth, MA, Phone: (508) 747-4900.
Gloucester, Massachusetts Monday, January 30, 2012 6-8 p.m | MA DMF Annisquam River Station, 30 Emerson Avenue, Gloucester, MA, Phone: (978) 828-0308.
Portsmouth, New Hampshire Tuesday, January 31, 2012 6-8 p.m | Sheraton Harborside, 250 Market Street, Portsmouth, NH, Phone: (603) 431-2000.

Issues Identified for Discussion Under This Amendment

This action will consider measures that require changes to the NE multispecies FMP. Measures may be developed and adopted in a future action. The Council may consider several types of management measures, including, but not limited to:

• No action; no additional measures would be adopted;

• Establishing individual accumulation caps, or sector accumulation caps, on a stock-specific or fishery-wide level;

• Establishing limits or caps of fishing privileges limit measures fleet-wide or separately for inshore and offshore fleets;

• Establishing usage caps for vessels fishing on a NE multispecies permit;

• Other measures to promote diversity within the fleet; and,

• Establishing performance indicators relating to the two objectives identified for the amendment (in addition to or instead of limits or caps).

The Council may deviate from these examples and develop additional approaches, consistent with their description in the Magnuson-Stevens Act and National Standard Guidelines. The above issues under consideration are described in greater detail in the scoping document itself; copies may be obtained from the Council (see ADDRESSES) or via the Internet at http://www.nefmc.org/.

Authority: 16 U.S.C. 1801 et seq.

Dated: December 16, 2011.
Steven Thur,
Acting Director, Office of Sustainable Fisheries, National Marine Fisheries Service.

[FR Doc. 2011-32694 Filed 12-20-11; 8:45 am]

BILLING CODE 3510-22-P